JUDICIAL CONFERENCE OF THE UNITED STATES

Advisory Committee on Appellate Rules; Hearing of the Judicial Conference

AGENCY: Advisory Committee on the Federal Rules of Appellate Procedure, Judicial Conference of the United States.

ACTION: Notice of cancellation of open hearing.

SUMMARY: The following remote public hearing on proposed amendments to the Federal Rules of Appellate Procedure has been canceled: Appellate Rules Hearing on October 19, 2020.

FOR FURTHER INFORMATION CONTACT: Rebecca A. Womeldorf, Secretary, Committee on Rules of Practice and Procedure of the Judicial Conference of the United States, Thurgood Marshall Federal Judiciary Building, One Columbus Circle NE, Suite 7-300, Washington, DC 20544, Telephone (202) 502-1820, RulesCommittee_Secretary@ao.uscourts.gov.

SUPPLEMENTARY INFORMATION: Announcements for this hearing were previously published in 85 FR 48562.

Authority: 28 U.S.C. 2073.

Dated: September 21, 2020.
Shelly L. Cox,
Rules Committee Staff.

[FR Doc. 2020-21115 Filed 9-23-20; 8:45 am]

BILLING CODE 2210-55-P